DEPARTMENT OF HEALTH AND HUMAN SERVICES

Food and Drug Administration

[Docket No. FDA-2024-N-1532]

Agency Information Collection Activities; Proposed Collection; Risk/Safety Considerations and Motivations for Purchase and Use of Kratom and Psychedelics Alone and in Combination With Other Substances; Withdrawal of Notice

AGENCY: Food and Drug Administration, HHS.

ACTION: Notice; withdrawal.

SUMMARY: The Food and Drug Administration (FDA) is announcing the withdrawal of a notice that was published in the Federal Register of August 2, 2024.

DATES: The notice is withdrawn on August 12, 2024.

FOR FURTHER INFORMATION CONTACT: Darren Eicken, Center for Drug Evaluation and Research, Food and Drug Administration, 10903 New Hampshire Ave., Bldg. 51, Rm. 6206, Silver Spring, MD 20993-0002, 240-402-0978.

SUPPLEMENTARY INFORMATION: In a notice published in the Federal Register of August 2, 2024 (89 FR 63202), “Agency Information Collection Activities; Proposed Collection; Comment Request: Risk/Safety Considerations and Motivations for Purchase and Use of Kratom and Psychedelics Alone and in Combination With Other Substances,” FDA requested comment on the information collection associated with the proposed study entitled “Risk/Safety Considerations and Motivations for Purchase and Use of Kratom and Psychedelics Alone and in Combination With Other Substances.”

Under the Paperwork Reduction Act of 1995 (PRA), Federal Agencies are required to publish notice in the Federal Register concerning each proposed collection of information, including each proposed extension of an existing collection of information, and to allow 60 days for public comment in response to the notice.

In the August 2, 2024, Federal Register notice, FDA proposed a new collection of information. However, FDA no longer intends to proceed with the proposed study as described because circumstances occurred necessitating changes to the scope of the study. Therefore, we are withdrawing the August 2, 2024, notice.

Dated: August 6, 2024.
Lauren K. Roth,
Associate Commissioner for Policy.

[FR Doc. 2024-17793 Filed 8-9-24; 8:45 am]

BILLING CODE 4164-01-P